DEPARTMENT OF AGRICULTURE

Forest Service

Pawnee National Grassland, Colorado; Oil and Gas Leasing Analysis Environmental Impact Statement

AGENCY: Forest Service, USDA.

ACTION: Notice of intent to prepare an environmental impact statement.

SUMMARY: In November of 1997, the Arapaho and Roosevelt National Forest and Pawnee National Grassland Record of Decision (ROD) for the Revision of the Land and Resource Management Plan (LRMP), which included the Oil and Gas Leasing Analysis on the Pawnee National Grassland (PNG), was signed. That decision determined which Lands are administratively available for leasing [36 CFR 228.102(d)], including conditions (lease stipulations) under which lands will be available. The oil and gas decisions contained in the 1997 ROD were based on an April 1995 projection of the reasonably foreseeable oil and gas development for the Pawnee National Grassland. Much of the PNG's federal mineral estate made available per the 1997 ROD has already been leased.

Since the analysis was completed 16 years ago, there has been a change in the manner in which oil and gas development has occurred on the Pawnee National Grassland. Multiple wells can be drilled from a single well pad rather than just one, as was most common in the past. The improvements in horizontal drilling and hydraulic fracturing technologies to improve the ability to access and recover oil and gas located deep underground from horizons previously thought uneconomic are the primary reasons for these changes in development.

The remaining available lands that are not presently leased have been nominated for leasing by industry. Before the Forest Service provides the Bureau of Land Management with consent to offer these lands for lease, it must verify that the requested lands have been adequately addressed in a NEPA document and is consistent with the Forest Land and Resource Management Plan [36 CFR 228.102(e)]. Accordingly, the PNG finds it is necessary to disclose the potential effects of the changed pattern and level of oil and gas development from those effects considered in the 1997 FEIS, and determine whether or not there is a need to change LRMP standards and guidelines (and possibly leasing stipulations) to minimize the potential impact of oil and gas development on the Pawnee National Grassland, which may require a plan amendment.

DATES: Scoping is an early and open process for identifying the issues and determining the scope of issues to be addressed in the analysis. The Arapaho and Roosevelt National Forests and Pawnee National Grassland are soliciting comments on the proposed action. Comments should be written to help identify the issues that need to be addressed in the analysis. The public is welcome to comment at any time throughout the process; however, comments received prior to 05/14/2013 would be more useful and help keep the time line. The draft environmental impact statement is expected to be available to the public for comment in August, 2013 and the final environmental impact statement is expected in August 2014.

ADDRESSES: USDA Forest Service, Arapaho and Roosevelt National Forests and Pawnee National Grassland, 2150 Centre Avenue, Building E, Fort Collins, CO 80526.

FOR FURTHER INFORMATION CONTACT: Tom Ford, Interdisciplinary Team Leader, at 2150 Centre Avenue, Building E, Fort Collins, CO 80526, by email at tford01@fs.fed.us or by phone at 970-295-6610.

Individuals who use telecommunication devices for the deaf (TDD) may call the Federal Information Relay Service (FIRS) at 1-800-877-8339 between 8 a.m. and 8 p.m., Eastern Time, Monday through Friday.

SUPPLEMENTARY INFORMATION:

Purpose and Need for Action

In light of a changed pattern and level of oil and gas activity from what was anticipated in the 1997 ROD, there is a need to reevaluate our 1997 Oil and Gas Leasing Analysis that identified NFS lands available for federal oil and gas leasing on the PNG. The purpose of the analysis is to consider and disclose any new circumstances or information relevant to environmental effects that may not have been anticipated in the 1997 FEIS to determine if additional management direction and/or leasing stipulations are necessary to protect National Forest System lands. The need for this action is to allow the PNG to verify that specific lands nominated by industry for leasing are adequately addressed in a NEPA document before providing consent to the BLM to offer such lands at a lease sale.

Proposed Action

The PNG proposes to validate what lands are available for federal oil and gas leasing; what constraints are needed (lease stipulations) to minimize impacts to surface resources; and make any needed changes to management direction in the LRMP.

Responsible Official

Glenn Casamassa, Forest Supervisor of the Arapaho and Roosevelt National Forests and Pawnee National Grassland.

Nature of Decision To Be Made

Based on the analysis and information contained in the EIS, the Forest Supervisor will validate which lands will be available for lease, which lands will be adminstratively unavailable for lease, whether or not additional management direction would be incorporated into the Arapaho and Roosevelt National Forests and Pawnee National Grassland LRMP, and if that would require a plan amendment.

Dated: March 22, 2013.
Hal Gibbs,
Acting Forest Supervisor of the Arapaho and Roosevelt National Forests and the Pawnee National Grassland.

[FR Doc. 2013-07488 Filed 3-29-13; 8:45 am]

BILLING CODE 3410-11-P